DEPARTMENT OF HOMELAND SECURITY

Coast Guard

33 CFR Part 100

[Docket No. USCG-2019-0357]

Special Local Regulations; Marine Events Within the Captain of the Port Zone Columbia River

AGENCY: Coast Guard, DHS.

ACTION: Notice of enforcement of regulation.

SUMMARY: The Coast Guard will enforce special local regulations at eight locations in the Sector Columbia River Captain of the Port zone during the dates and times noted in this document. This action is necessary to prevent injury and to protect life and property of the maritime public from the hazards associated with special marine events. These regulations prohibit persons and vessels from entry into, transit through, mooring, anchoring, or loitering within the regulated area unless authorized by the Captain of the Port, Sector Columbia River or their designated representative.

DATES: The regulations in 33 CFR 100.1302 will be enforced for the eight regulated areas identified in the SUPPLEMENTARY INFORMATION section below for the dates and times specified in this document.

FOR FURTHER INFORMATION CONTACT: If you have questions about this notice of enforcement, call or email LCDR Dixon Whitley, Waterways Management Division, Marine Safety Unit Portland, Coast Guard; telephone 503-240-9319, email msupdxwwm@uscg.mil.

SUPPLEMENTARY INFORMATION: The Coast Guard will enforce special local regulations established in 33 CFR 100.1302 for the following eight events during the hours specified on the dates and at the locations listed in the following Table:

Table—Dates and Times of Enforcement of 33 CFR 100.1302 Special Local Regulations at Various Locations in the Sector Columbia River Captain of the Port Zone in 2019
No. | Date | Event | Sponsor | Location
1 | May 31, 2019, 9 a.m. to 5 p.m | Spring Testing Hydroplane races | Tri-Cities Water Follies Association | Kennewick, WA. Regulated area includes all navigable waters within the Columbia River in the vicinity of Columbia Park, commencing at the Interstate 395 Bridge and continuing up river approximately 2.0 miles and terminating at the northern end of Wade Island.
2 | June 8, 2019-June 9, 2019, 7 a.m. to 4 p.m | Rose Fest Dragon Boat Races | Portland-Kaohsiung Sister Association | Portland, OR. Regulated area includes all waters of the Willamette River shore to shore, bordered on the north by the Hawthorne Bridge, and on the south by the Marquam Bridge.
3 | June 28, 2019-June 30, 2019, 8 a.m. to 7 p.m | Richland Regatta Hydroplane races | Northwest Power Boat Association | Richland, WA. Regulated area includes all navigable waters of the Columbia River in the vicinity of Howard Amon Park, between River Miles 337 and 338.
4 | July 13, 2019, 11 a.m. to 7 p.m | The Big Float, group inner-tube float | Human Access Project | Portland, OR. Regulated area includes all navigable waters of the Willamette River, in Portland, Oregon, enclosed by the Hawthorne Bridge, the Marquam Bridge, and west of a line beginning at the Hawthorne Bridge at approximate location 45°30′50″ N; 122°40′21″ W, and running south to the Marquam Bridge at approximate location 45°30′27″ N; 122°40′11″ W.
5 | July 26, 2019-July 28, 2019, 6 a.m. to 6 p.m | Kennewick Hydroplane Races | Tri-Cities Water Follies Association | Kennewick, WA. Regulated area includes all navigable waters within the Columbia River in the vicinity of Columbia Park, commencing at the Interstate 395 Bridge and continuing up river approximately 2.0 miles and terminating at the northern end of Wade Island.
6 | August 10, 2019, 11 a.m. to 1 p.m | Swim the Snake | Blue Mountain Resource Conservation and Development | Perry, WA. Regulated area includes all navigable waters, bank-to-bank of the Snake River, 500 yards upstream and 500 yards downstream from the Washington State Highway 261 Bridge at the approximate position of 46°35′23″ N; 118°13′10″ W.
7 | September 7, 2019, 9 a.m. to 10:30 a.m | Columbia Crossing Swim | 3 Rivers Road Runners | Pasco, WA. Regulated area includes all navigable waters, bank-to-bank of the Columbia River in Pasco, Washington, between river mile 332 and river mile 335.
8 | September 7, 2019- September 8, 2019, 8 a.m. to 6 p.m | Portland Dragon Boat Races | DragonSports USA | Portland, OR. Regulated area includes the western side of the Willamette River extending from Tom McCall Waterfront Park between the Hawthorne and Marquam Bridges, Portland, OR: Line one starting at 45-30′49″ N/122-40′24″ W then heading east to 45-30′49″ N/122-40′22″ W then heading south to 45-30′29″ N/122-40′08″ W then heading west to 45-30′26″ N/122-40′14″ W then heading north ending at 45-30′49″N/122-40′24″ W.
All coordinates are listed in reference Datum NAD 1983.

The special requirements listed in 33 CFR 100.1302 apply to the activation and enforcement of these special local regulations. All vessel operators who desire to enter the designated zone must obtain permission from the Captain of the Port or their Designated Representative. The Coast Guard may be assisted by other Federal, State, or local law enforcement agencies in enforcing this regulation.

In addition to this notice of enforcement in the Federal Register, the Coast Guard will provide notification of this enforcement period via the Local Notice to Mariners and marine information broadcasts.

Dated: May 20, 2019.
J.C. Smith,
Captain, U.S. Coast Guard, Captain of the Port Columbia River.

[FR Doc. 2019-10890 Filed 5-23-19; 8:45 am]

BILLING CODE 9110-04-P